DEPARTMENT OF THE INTERIOR

Bureau of Land Management

[LLORW00000.10200000.DF0000.LXSSH1080000.20X. HAG 21-0063]

Notice of Public Meeting for the San Juan Islands National Monument Advisory Committee, Washington

AGENCY: Bureau of Land Management, Interior.

ACTION: Notice of public meeting.

SUMMARY: In accordance with the Federal Land Policy and Management Act, the Federal Advisory Committee Act of 1972, and the U.S. Department of the Interior, Bureau of Land Management (BLM), the San Juan Islands National Monument Advisory Committee (MAC) will meet as indicated below.

DATES: The MAC will hold a public meeting on Tuesday, September 14, 2021. This meeting will be held from 9:00 a.m. to 3:30 p.m. A public comment period will be available in the afternoon from 12 p.m. until 1 p.m.

ADDRESSES: The meeting will be held at the Lopez Community Center for the Arts, 204 Village Road, Lopez Island, WA 98261. There will be an option to participate in the meeting virtually as well. Virtual participation information will be posted online two weeks in advance of each meeting at https://www.blm.gov/get-involved/resource-advisory-council/near-you/oregon-washington/san-juan-islands-mac.

FOR FURTHER INFORMATION CONTACT: Jeff Clark, Spokane District Public Affairs Officer, 1103 N. Fancher, Spokane Valley, WA 99212, telephone: (509) 536-1297, or email: jeffclark@blm.gov. Persons who use a telecommunications device for the deaf (TDD) may call the Federal Relay Service at 1(800) 877-8339 to contact Mr. Clark during normal business hours. This service is available 24 hours a day, 7 days a week, to leave a message or question. You will receive a reply during normal business hours.

SUPPLEMENTARY INFORMATION: The San Juan Islands MAC is comprised of 12 members representing a wide array of interests, including recreation, Tribal interests, education, environmental organizations, and private landowners.

The meeting will begin at 9:00 a.m. with a welcome and agenda review. Members will then review the San Juan Islands National Monument Proposed Resource Management Plan and Environmental Impact Statement and clarifying items from the BLM. This discussion and review will continue until a working lunch at noon. At noon, members of the public will have the opportunity to make comments to the MAC during a 1-hour public comment period. The review will continue after the public comment period, if necessary. The next topic will be to consider opportunities for the MAC to support implementation of the management plan once the record of decision is signed. The MAC will adjourn no later than 3:30 p.m.

All MAC meetings are open to the public. Persons wishing to make comments during the public comment period should register in person with the BLM by 11:00 a.m. on the meeting day. Depending on the number of persons wishing to speak and the time available, the amount of time or oral comments may be limited. Written public comments may be sent to the BLM Spokane District office listed in the ADDRESSES section of this notice. All comments received will be provided to the MAC.

(Authority: 43 CFR 1784.4-2)

Kurt Pindel,
Spokane District Manager.

[FR Doc. 2021-17322 Filed 8-12-21; 8:45 am]

BILLING CODE 4310-33-P